SMALL BUSINESS ADMINISTRATION

Public Federal Regulatory Enforcement Fairness Hearing; Region VII Regulatory Fairness Board

The Small Business Administration Region VII Regulatory Fairness Board and the SBA Office of the National Ombudsman will hold a Public Hearing on Wednesday, March 30, 2005 at 1 p.m. at Southeast Community College, Gallup Campus, 301 South 68 Street Place, Lincoln, NE 68510, phone (402) 221-4691, to receive comments and testimony from small business owners, small government entities, and small non-profit organizations concerning regulatory enforcement and compliance actions taken by federal agencies.

Anyone wishing to attend or to make a presentation must contact Deb Wilson in writing or by fax, in order to be put on the agenda. Deb Wilson, Public Information Officer, SBA Nebraska District Office, 11145 Mill Valley Road, Omaha, NE 68154, phone (402) 221-7222, fax (402) 221-3680, e-mail: Deborah.Wilson@sba.gov.

For more information, see our Web site at http://www.sba.gov/ombudsman.

Dated: March 4, 2005.
Peter Sorum,
Senior Advisor, Office of the National Ombudsman.

[FR Doc. 05-4997 Filed 3-14-05; 8:45 am]

BILLING CODE 8025-01-P